DEPARTMENT OF JUSTICE

Antitrust Division

Notice Pursuant to the National Cooperative Research and Production Act of 1993—American College of Surgeons

Notice is hereby given that, on September 15, 2004, pursuant to section 6(a) of the National Cooperative Research and Production Act of 1993, 15 U.S.C. 4301 et seq. (“the Act”), American College of Surgeons (“ACS”) has filed written notifications simultaneously with the Attorney General and the Federal Trade Commission Disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American College of Surgeons, Chicago, IL. The nature and scope of ACS's standards development activities are: Fellowship requirements; statements and guidelines on surgery, surgery practice and surgeon conduct; trauma guidelines, evaluation, management and education relating to trauma; and cancer standards, evaluation, management and education relating to cancer.

Dorothy B. Fountain,
Deputy Director of Operations, Antitrust Division.

[FR Doc. 05-1970 Filed 2-1-05; 8:45 am]

BILLING CODE 4410-11-M